DEPARTMENT OF HOMELAND SECURITY

[Docket No. DHS-2015-0043]

Meeting: Homeland Security Advisory Council

AGENCY: The Office of Intergovernmental Affairs, DHS.

ACTION: Notice of partially closed Federal Advisory Committee meeting.

SUMMARY: The Homeland Security Advisory Council (HSAC) will meet in person on September 29, 2015. Members of the public may participate in person. The meeting will be partially closed to the public.

DATES: The HSAC will meet Tuesday, September 29, 2015 from 10:05 a.m. to 5:00 p.m. EDT. The meeting will be open to the public from 11:15 a.m. to 2:05 p.m. EDT and 4:00 p.m. to 5:00 p.m. Please note the meeting may close early if the Council has completed its business. The meeting will be closed to the public from 10:05 a.m. to 11:05 a.m. EDT and 2:15 p.m. to 3:55 p.m. EDT.

ADDRESSES: The meeting will be held be held at the Woodrow Wilson International Center for Scholars (“Wilson Center”), located at 1300 Pennsylvania Avenue NW., Washington, DC 20004. All visitors will be processed through the lobby of the Wilson Center. Written public comments prior to the meeting must be received by 5:00 p.m. EDT on September 23, 2015, and must by identified by Docket No. DHS-2015-0043. Written public comments after the meeting must be identified by Docket No. DHS-2015-0043 and may be submitted by one of the following methods:

• Federal eRulemaking Portal: http://www.regulations.gov. Follow the instructions for submitting comments.

• Email: HSAC@hq.dhs.gov. Include Docket No. DHS-2015-0043 in the subject line of the message.

• Fax: (202) 282-9207.

• Mail: Homeland Security Advisory Council, Department of Homeland Security, Mailstop 0445, 245 Murray Lane SW., Washington, DC 20528.

Instructions: All submissions received must include the words “Department of Homeland Security” and “DHS-2015-0043,” the docket number for this action. Comments received will be posted without alteration at http://www.regulations.gov, including any personal information provided.

Docket: For access to the docket to read comments received by the DHS Homeland Security Advisory Council, go to http://www.regulations.gov, search “DHS-2015-0043,” “Open Docket Folder” and provide your comments.

FOR FURTHER INFORMATION CONTACT: Mike Miron at HSAC@hq.dhs.gov or at (202) 447-3135.

SUPPLEMENTARY INFORMATION: Notice of this meeting is given under Section 10(a) of the Federal Advisory Committee Act (FACA), Public Law 92-463 (5 U.S.C. Appendix) requires each FACA committee meeting to be open to the public.

The HSAC provides organizationally independent, strategic, timely, specific, and actionable advice and recommendations for the consideration of the Secretary of the Department of Homeland Security (DHS) on matters related to homeland security. The Council is comprised of leaders of local law enforcement, first responders, state and local government, the private sector, and academia.

The HSAC will meet in an open session between 11:15 a.m. and 2:05 p.m. EDT and from 4:00 p.m. to 5:00 p.m. EDT. The HSAC will receive observations and remarks from DHS senior leadership. Members will receive verbal progress reports from the subcommittees and Departmental leadership on: The DHS Grant Review Task Force, the CBP Integrity Advisory Panel, the DHS Employee Task Force, the Foreign Fighter Task Force, and the Cybersecurity Subcommittee.

The HSAC will meet in a closed session from 10:05 a.m. to 11:05 a.m. and 2:15 p.m. to 3:55 p.m. EDT to receive sensitive operational information from senior DHS leadership. This information regards threats to our homeland, specifically operational updates to the National Terrorism Advisory System, cybersecurity, aviation, and the current threat environment.

Basis for Partial Closure: In accordance with Section 10(d) of the Federal Advisory Committee Act (FACA), this meeting has been determined to require partial-closure. The disclosure of the information relayed would be detrimental to the public interest for the following reasons:

The HSAC will receive closed session briefings from DHS officials on operational updates to the National Terrorism Advisory System, aviation security, cybersecurity, and the current threat environment. These briefings will concern matters sensitive to homeland security within the meaning of 5 U.S.C. 552b(c)(7)(E)and 552b(c)(9)(B), disclosure of these techniques and procedures could frustrate the successful implementation of protective measures designed to keep our country safe. In addition, 5 U.S.C. 552b(c)(7)(E), disclosure of that information could reveal investigative techniques and procedures not generally available to the public, allowing terrorist and those with interests against the United States to circumvent the law.

Participation: Members of the public will have until 5 p.m. EDT on Wednesday, September 23, 2015 to register to attend the HSAC meeting on September 29, 2015. Due to limited availability of seating, admittance will be on a first-come first-served basis. Participants interested in attending the meeting can contact Mike Miron at HSAC@hq.dhs.gov or via phone (202) 447-3135. Please indicate which public session you would like to attend: first session (11:15 a.m. to 2:05 p.m. EDT) or second session (4:00 p.m. to 5:00 p.m. EDT) or both sessions. You are required to provide your full legal name, date of birth, and company/agency affiliation. The public may access the facility via public transportation or use the public parking garages located near the Wilson Center. Wilson Center directions can be found at: http://wilsoncenter.org/directions. Members of the public will meet at 10:45 a.m. EDT at the Wilson Center's main entrance for sign in and escorting to the public meeting room for the first public session. Late arrivals after 11:30 a.m. EDT will not be permitted access to the facility. Members of the public will meet at 3:45 p.m. EDT at the Wilson Center's main entrance for sign in and escorting to the public meeting room for the second public session. Late arrivals after 4:15 p.m. EDT will not be permitted access to the facility.

Facility Access: You are required to present a valid original government issued ID; State Driver's License or Non-Driver's Identification Card, U.S. Government Common Access Card (CAC), Military Identification Card or Person Identification Verification Card; U.S. Passport, U.S. Border Crossing Card, Permanent Resident Card or Alien Registration Card; or Native American Tribal Document.

Information of Services for Individuals with Disabilities: For information on facilities or services for individuals with disabilities, or to request special assistance at the meeting, contact Mike Miron at HSAC@hq.dhs.gov or at (202) 447-3135 as soon as possible.

Dated: September 9, 2015.
Sarah E. Morgenthau,
Executive Director, Homeland Security Advisory Council, DHS.

[FR Doc. 2015-23116 Filed 9-14-15; 8:45 am]

BILLING CODE 9110-9M-P